DEPARTMENT OF STATE

[Public Notice: 12073]

Listening Session on Modernizing the Columbia River Treaty Regime

ACTION: Notice of meeting.

SUMMARY: The Department of State will hold a virtual listening session on May 31, 2023, to provide an update after the May 16-17 round of negotiations on the modernization of the Columbia River Treaty (CRT) regime.

DATES: The session will be held on Wednesday, May 31, 2023, from 8:00 p.m.-9:30 p.m. ET (5:00 p.m.-6:30 p.m. PT).

ADDRESSES: The session will be held virtually.

FOR FURTHER INFORMATION CONTACT: Office of Canadian Affairs, Department of State, ColumbiaRiverTreaty@state.gov, (202) 647-2170.

SUPPLEMENTARY INFORMATION: This listening session is part of the Department's public engagement on the modernization of the CRT regime. (Per 22 U.S.C. 2651a and 2656.) The session is open to the public. To register, go to: https://statedept.zoomgov.com/webinar/register/WN_Fi-b75OnSTKRJZ242xcMGA. Requests for reasonable accommodation should be made to the email listed above, on or before May 21, 2023. The Department will consider requests made after that date, but might not be able to accommodate them. For more information about the meeting, and to submit questions in advance, please contact ColumbiaRiverTreaty@state.gov.

Authority: 22 U.S.C. 2651a, 2656; 5 U.S.C. 552.

Jennifer L. Savage,
Director, Office of Canadian Affairs, Department of State.

[FR Doc. 2023-10389 Filed 5-15-23; 8:45 am]

BILLING CODE 4710-29-P